NUCLEAR REGULATORY COMMISSION

10 CFR Parts 30, 40, 70, 170, and 171

[NRC-2011-0003]

RIN 3150-AH15

Distribution of Source Material to Exempt Persons and to General Licensees and Revision of General License and Exemptions

AGENCY: Nuclear Regulatory Commission.

ACTION: Interim staff guidance; issuance.

SUMMARY: The U.S. Nuclear Regulatory Commission (NRC) is issuing interim staff guidance for implementation of the final rule, Distribution of Source Material to Exempt Persons and to General Licensees and Revision of General License and Exemptions (Distribution of Source Material Rule). The Distribution of Source Material Rule amended the NRC's regulations to require that the initial distribution of source material to exempt persons or to general licensees be explicitly authorized by a specific license. The Distribution of Source Material Rule also modified the existing possession and use requirements of the general license for small quantities of source material and revised, clarified, or deleted certain source material exemptions from licensing.

DATES: This interim staff guidance is effective August 27, 2013.

ADDRESSES: Please refer to Docket ID NRC-2011-0003 when contacting the NRC about the availability of information regarding this document. You may access information related to this document, which the NRC possesses and is publicly available using the following methods:

• Federal Rulemaking Web site: Go to http://www.regulations.gov and search for Docket ID NRC-2011-0003. Documents related to the Distribution of Source Material Rule can be found by searching on Docket ID NRC-2009-0084. Address questions about NRC dockets to Carol Gallagher; telephone: 301-492-3668; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209 or 301-415-4737, or by email to PDR.Resource@nrc.gov. The interim staff guidance is available in ADAMS under Accession No. ML13051A824.

• NRC's PDR: You may examine and purchase copies of public documents at the NRC's PDR, Room O1-F21, One White Flint North, 11555 Rockville Pike, Rockville, Maryland 20852.

FOR FURTHER INFORMATION CONTACT: Gary Comfort, Office of Federal and State Materials and Environmental Management Programs, U.S. Nuclear Regulatory Commission, Washington, DC 20555-0001, telephone: 301-415-8106, email: Gary.Comfort@nrc.gov or Tomas Herrera, Office of Federal and State Materials and Environmental Management Programs, U.S. Nuclear Regulatory Commission, Washington, DC 20555-0001, telephone: 301-415-7138, email: Tomas.Herrera@nrc.gov.

SUPPLEMENTARY INFORMATION:

Discussion

The NRC's Distribution of Source Material Rule (78 FR 32310; May 29, 2013) amended the NRC's regulations in parts 30, 40, 70, 170, and 171 of Title 10 of the Code of Federal Regulations (10 CFR) to require that the initial distribution of source material to exempt persons or general licensees be explicitly authorized by a specific license. The Distribution of Source Material Rule also included new reporting requirements. The rule will affect manufacturers and distributors of certain products and materials containing source material and certain persons using source material under general license and under exemptions from licensing. The Distribution of Source Material Rule goes into effect on August 27, 2013.

In conjunction with the Distribution of Source Material Rule, the NRC has developed interim staff guidance, which provides guidance to a licensee or applicant for implementation of the amended regulations. It is intended for use by applicants, licensees, Agreement States, and the NRC staff. On January 7, 2011, the NRC published the draft interim staff guidance in the Federal Register (76 FR 1100) for public comment. Two comment letters were received and considered during the revision of the draft interim staff guidance. The guidance was also enhanced based on comments received on the proposed rule.

The interim staff guidance document describes methods acceptable to the NRC staff for implementing the new requirements in the Distribution of Source Material Rule. The approaches and methods described in the document are provided for information only. Methods and solutions different from those described in the document are acceptable if they meet the revised requirements. The guidance is provided in the form of questions and answers on the primary provisions of the Distribution of Source Material Rule. Guidance consistent with the revised 10 CFR part 40 will be incorporated into the next revision of relevant volumes of NUREG-1556, “Consolidated Guidance About Materials Licenses” (current ADAMS Accession Nos. ML022830847 and ML003681951).

Congressional Review Act

This interim staff guidance is a rule as designated in the Congressional Review Act of 1996 (5 U.S.C. 801-808). However, the Office of Management and Budget has not found it to be a major rule as designated in the Congressional Review Act.

Dated at Rockville, Maryland, this 30th day of May, 2013.
For the Nuclear Regulatory Commission.
Brian J. McDermott,
Director, Division of Materials Safety and State Agreements, Office of Federal and State Materials and Environmental Management Programs.

[FR Doc. 2013-13344 Filed 6-4-13; 8:45 am]

BILLING CODE 7590-01-P